DEPARTMENT OF ENERGY

Federal Energy Regulatory Commission

[Project No. 1971 Idaho]

Idaho Power Company; Notice of Extension of Time

November 17, 2000.

On November 14, 2000, Idaho Power Company filed a request for additional time to respond to the Request for Additional Studies and Information (fish passage studies) filed on October 30, 2000, by the Nez Perce Tribe, American Rivers, Idaho Rivers United, and Trout Unlimited. Idaho Power Company stated that more time is needed to identify the nature and extent of any disagreement over the scope, content, and timing of ongoing studies and the issues raised by the study request.

Upon consideration, notice is hereby given that an extension of time for the filing of a response is granted to and including December 14, 2000.

Linwood A. Watson, Jr.,
Acting Secretary.

[FR Doc. 00-29950 Filed 11-22-00; 8:45 am]

BILLING CODE 6717-01-M